DEPARTMENT OF THE INTERIOR

Office of the Secretary

[Docket No. ONRR-2012-0003; DS63600000 DR2000000.PMN000 178D0102R2]

30-day Extension of Nomination Period for the Royalty Policy Committee

AGENCY: Office of Natural Resources Revenue, Interior.

ACTION: Notice.

SUMMARY: On April 3, 2017, the U.S. Department of the Interior (DOI) published a notice establishing the Royalty Policy Committee (Committee) and requesting nominations and comments. This notice extends the nomination period end date by 30 additional days.

DATES: Nominations for the Committee must be submitted by June 2, 2017.

ADDRESSES: You may submit nominations by any of the following methods:

• Mail or hand-carry nominations to: Ms. Kim Oliver, Department of the Interior, Office of Natural Resources Revenue, 1849 C Street NW., MS 5134, Washington, DC 20240.

• Email nominations to: Kimiko.oliver@onrr.gov.

FOR FURTHER INFORMATION CONTACT: Ms. Judy Wilson, Office of Natural Resources Revenue; telephone (202) 208-4410; email: judith.wilson@onrr.gov.

SUPPLEMENTARY INFORMATION: The Committee is established under the authority of the Secretary of the Interior (Secretary) and regulated by the Federal Advisory Committee Act. The purpose of the Committee is to ensure that the public receives the full value of the natural resources produced from Federal lands. The duties of the Committee are solely advisory in nature.

The Committee will not exceed 28 members and will be composed of Federal and non-Federal members in order to ensure fair and balanced representation.

The Secretary will appoint non-Federal members in the following categories:

• Up to six members representing the Governors of States that receive more than $10,000,000 annually in royalty revenues from onshore and offshore Federal leases.

• Up to four members representing the Indian Tribes that are engaged in activities subject to laws relating to mineral development that is specific to one or more Indian Tribes.

• Up to six members representing various mineral and/or energy stakeholders in Federal and Indian royalty policy.

• Up to four members representing academia and public interest groups.

Nominations should include a resume providing an adequate description of the nominee's qualifications, including information that would enable DOI to make an informed decision regarding meeting the membership requirements of the Committee and to permit DOI to contact a potential member.

Public Disclosure of Comments: Before including your address, phone number, email address, or other personal identifying information in your comment, you should be aware that your entire nomination submission—including your personal identifying information—may be made publicly available at any time. While you can ask us in your submission to withhold your personal identifying information from public review, we cannot guarantee that we will be able to do so.

Authority: 5 U.S.C. Appendix 2.

Dated: April 25, 2017.
Gregory J. Gould,
Director, Office of Natural Resources Revenue.

[FR Doc. 2017-08934 Filed 5-2-17; 8:45 am]

BILLING CODE 4335-30-P